DEPARTMENT OF HOUSING AND URBAN DEVELOPMENT

[Docket No. 6516-N-01]

Announcement of the Housing Counseling Federal Advisory Committee; Notice of Public Meeting

AGENCY: Office of the Assistant Secretary for Housing—Federal Housing Commissioner, Department of Housing and Urban Development (HUD).

ACTION: Notice of Housing Counseling Federal Advisory Committee public meeting.

SUMMARY: This gives notice of a Housing Counseling Federal Advisory Committee (HCFAC) virtual meeting and sets forth the proposed agenda. The HCFAC virtual meeting will be held on Thursday, June 12, 2025. The meeting is open to the public and is accessible to individuals with disabilities.

DATES: The virtual meeting will be held on Thursday, June 12, 2025, starting at 1 p.m. eastern time (ET).

FOR FURTHER INFORMATION CONTACT: Sheba Cousins, Acting Designated Federal Officer, Office of Housing Counseling, U.S. Department of Housing and Urban Development; telephone number (202) 402-2986 (this is not a toll-free number); email Sheba.Cousins@hud.gov. HUD welcomes and is prepared to receive calls from individuals who are deaf or hard of hearing, as well as individuals with speech and communication disabilities. To learn more about how to make an accessible telephone call, please visit: https://www.fcc.gov/consumers/guides/telecommunications-relay-service-trs. Individuals may also email HCFACCommittee@hud.gov for information.

SUPPLEMENTARY INFORMATION: HUD is convening a virtual meeting of the HCFAC on Thursday, June 12, 2025, from 1 p.m. to 4 p.m. ET. The virtual meeting will be held using Zoom. This meeting notice is provided in accordance with the Federal Advisory Committee Act, 5 U.S.C. 1009(a)(2).

Draft Agenda—Housing Counseling Federal Advisory Committee Meeting

Thursday, June 12, 2025

Updates on Major Initiatives of the Office of Housing Counseling

I. Welcome

II. Presentations and HCFAC Member Discussion

III. Public Comment

IV. Next Steps

V. Adjourn

Registration

The public is invited to attend this 3-hour virtual meeting using Zoom for the virtual meeting. Advance registration is required to attend. To register, please visit https://www.zoomgov.com/meeting/register/810T-TA4Rdm7dtu6WU2FhQ and complete the registration form no later than June 9, 2025. Registration for virtual attendance will close on June 9, 2025. After submitting the registration form, registrants for the virtual meeting will receive a confirmation email with the meeting link and passcode needed to attend. If you have any questions about registration, please email HCFACCommittee@hud.gov.

Public Comments

The public will have an opportunity to give written and oral comments relative to agenda topics for the HCFAC's consideration. Written comments can be provided on the registration form or by emailing HCFACCommittee@hud.gov. All written comments must be provided by June 9, 2025. Please note, written comments will not be read during the virtual meeting but will be provided to the HCFAC members.

Oral comments may be provided during the virtual meeting. Comments from the public will be received at the end of the virtual meeting to ensure all agenda items can be completed. Each person providing oral comments will be allocated two minutes. This time will be allocated on a first-come first-served basis by HUD. The meeting registration confirmation will contain additional instructions for providing oral comments during the virtual meeting. The HCFAC will not respond to individual written or oral statements during the meeting but will take all public comments into account in its deliberations.

Meeting Records

Records and documents discussed during the meeting, as well as other information about the work of the HCFAC, will be available for public viewing as they become available on HUD Exchange at https://www.hudexchange.info/programs/housing-counseling/federal-advisory-committee/.

Frank Cassidy,
Principal Deputy Assistant Secretary for Housing.

[FR Doc. 2025-09382 Filed 5-23-25; 8:45 am]

BILLING CODE 4210-67-P